DEPARTMENT OF TRANSPORTATION

Federal Aviation Administration

14 CFR Part 97

[Docket No. 31177; Amdt. No. 3785]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 13, 2018. The compliance date for each SIAP, associated Takeoff Minimums, and ODP is specified in the amendatory provisions.

The incorporation by reference of certain publications listed in the regulations is approved by the Director of the Federal Register as of February 13, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION:

This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on January 26, 2018.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 1 March 2018

Hope, AR, Hope Muni, NDB RWY 16, Amdt 5A

Rexburg, ID, Rexburg-Madison County, RNAV (GPS) RWY 35, Amdt 1C

Pittsburg, KS, Atkinson Muni, RNAV (GPS) RWY 17, Amdt 3A

Laredo, TX, Laredo Intl, VOR OR TACAN RWY 14, Amdt 10A

Laredo, TX, Laredo Intl, VOR OR TACAN RWY 32, Amdt 11A

Effective 29 March 2018

San Diego, CA, San Diego Intl, ILS Y OR LOC Y RWY 9, Amdt 2A

San Diego, CA, San Diego Intl, ILS Z OR LOC Z RWY 9, Orig

San Francisco, CA, San Francisco Intl, ILS OR LOC RWY 28L, ILS RWY 28L (SA CAT II), Amdt 26

San Francisco, CA, San Francisco Intl, ILS OR LOC RWY 28R, ILS RWY 28R (SA CAT I), ILS RWY 28R (CAT II), ILS RWY 28R (CAT III), Amdt 14

San Francisco, CA, San Francisco Intl, RNAV (GPS) RWY 28L, Amdt 6

San Francisco, CA, San Francisco Intl, RNAV (GPS) PRM RWY 28L (CLOSE PARALLEL), Amdt 2

San Francisco, CA, San Francisco Intl, RNAV (GPS) Z RWY 28R, Amdt 6

San Francisco, CA, San Francisco Intl, RNAV (RNP) Y RWY 28R, Amdt 4

St Augustine, FL, Northeast Florida Rgnl, ILS OR LOC RWY 31, Amdt 1

St Augustine, FL, Northeast Florida Rgnl, RNAV (GPS) RWY 31, Amdt 2

Douglas, GA, Douglas Muni, RNAV (GPS) RWY 4, Amdt 2

Douglas, GA, Douglas Muni, RNAV (GPS) RWY 22, Amdt 2

Independence, IA, Independence Muni, NDB RWY 18, Amdt 3A, CANCELED

Independence, IA, Independence Muni, RNAV (GPS) RWY 18, Amdt 1

Independence, IA, Independence Muni, RNAV (GPS) RWY 36, Amdt 1

Boise, ID, Boise Air Terminal/Gowen FLD, ILS OR LOC RWY 28R, Orig-B

Boise, ID, Boise Air Terminal/Gowen FLD, ILS Y OR LOC Y RWY 10R, ILS Y RWY 10R (SA CAT I), ILS Y RWY 10R (CAT II), ILS Y RWY 10R (CAT III), Amdt 13

Boise, ID, Boise Air Terminal/Gowen FLD, NDB RWY 10R, Amdt 28B, CANCELED

Chicago/West Chicago, IL, DuPage, RNAV (GPS) RWY 2R, Orig-D

Chicago/West Chicago, IL, DuPage, RNAV (GPS) RWY 10, Orig-E

Chicago/West Chicago, IL, DuPage, RNAV (GPS) RWY 20R, Amdt 1E

Springhill, LA, Springhill, Takeoff Minimums and Obstacle DP, Amdt 1

Boston, MA, General Edward Lawrence Logan Intl, ILS OR LOC RWY 4R, ILS RWY 4R (SA CAT I), ILS RWY 4R (CAT II), ILS RWY 4R (CAT III), Amdt 10D

Boston, MA, General Edward Lawrence Logan Intl, ILS OR LOC RWY 15R, Amdt 1G

Nantucket, MA, Nantucket Memorial, ILS OR LOC RWY 6, Amdt 2A

Nantucket, MA, Nantucket Memorial, ILS OR LOC RWY 24, Amdt 16A

Minneapolis, MN, Anoka County-Blaine (Janes Field), ILS OR LOC RWY 27, Orig-C

Minneapolis, MN, Anoka County-Blaine (Janes Field), RNAV (GPS) RWY 9, Amdt 1

Minneapolis, MN, Anoka County-Blaine (Janes Field), RNAV (GPS) RWY 18, Orig-F

Minneapolis, MN, Anoka County-Blaine (Janes Field), RNAV (GPS) RWY 27, Orig-D

Minneapolis, MN, Anoka County-Blaine (Janes Field), VOR RWY 9, Amdt 12D

Princeton, MN, Princeton Muni, RNAV (GPS) RWY 15, Orig-B

Princeton, MN, Princeton Muni, RNAV (GPS) RWY 33, Orig-A

Latrobe, PA, Arnold Palmer Rgnl, ILS OR LOC RWY 24, Amdt 17A

Latrobe, PA, Arnold Palmer Rgnl, RNAV (GPS) RWY 6, Amdt 1A

Latrobe, PA, Arnold Palmer Rgnl, RNAV (GPS) RWY 24, Amdt 1A

Latrobe, PA, Arnold Palmer Rgnl, Takeoff Minimums and Obstacle DP, Amdt 7

Hot Springs, SD, Hot Springs Muni, RNAV (GPS) RWY 1, Orig-B

Hot Springs, SD, Hot Springs Muni, RNAV (GPS) RWY 19, Orig-B

Memphis, TN, Memphis Intl, ILS OR LOC RWY 9, Amdt 27B

Memphis, TN, Memphis Intl, ILS OR LOC RWY 18C, Amdt 1D

Memphis, TN, Memphis Intl, ILS OR LOC RWY 18L, Amdt 2D

Memphis, TN, Memphis Intl, ILS OR LOC RWY 18R, Amdt 14D

Memphis, TN, Memphis Intl, ILS OR LOC RWY 27, Amdt 4C

Memphis, TN, Memphis Intl, RNAV (GPS) RWY 9, Amdt 1B

Memphis, TN, Memphis Intl, RNAV (GPS) RWY 27, Amdt 2D

Memphis, TN, Memphis Intl, RNAV (GPS) RWY 36C, Amdt 1C

Memphis, TN, Memphis Intl, RNAV (GPS) RWY 36L, Amdt 1C

Memphis, TN, Memphis Intl, RNAV (GPS) RWY 36R, Amdt 1D

Memphis, TN, Memphis Intl, RNAV (GPS) Z RWY 18C, Amdt 2B

Memphis, TN, Memphis Intl, RNAV (GPS) Z RWY 18L, Amdt 2D

Memphis, TN, Memphis Intl, RNAV (GPS) Z RWY 18R, Amdt 2E

Memphis, TN, Memphis Intl, RNAV (RNP) X RWY 18L, Orig-D

Memphis, TN, Memphis Intl, RNAV (RNP) X RWY 18R, Orig-E

Memphis, TN, Memphis Intl, RNAV (RNP) Y RWY 18C, Orig-E

Memphis, TN, Memphis Intl, RNAV (RNP) Y RWY 18L, Orig-D

Memphis, TN, Memphis Intl, RNAV (RNP) Y RWY 18R, Orig-E

Murfreesboro, TN, Murfreesboro Muni, Takeoff Minimums and Obstacle DP, Amdt 4

Fillmore, UT, Fillmore Muni, RNAV (GPS) RWY 4, Amdt 1B

Ogden, UT, Ogden-Hinckley, ILS OR LOC RWY 3, Amdt 4D

Ogden, UT, Ogden-Hinckley, RNAV (GPS) Y RWY 3, Orig-A

Ogden, UT, Ogden-Hinckley, VOR-A, Orig

Ogden, UT, Ogden-Hinckley, VOR/DME RWY 7, Amdt 6, CANCELED

Vernal, UT, Vernal Rgnl, RNAV (GPS) Y RWY 35, Orig-A

Vernal, UT, Vernal Rgnl, RNAV (GPS) Z RWY 35, Orig-A

Vernal, UT, Vernal Rgnl, VOR RWY 35, Orig-A

[FR Doc. 2018-02681 Filed 2-12-18; 8:45 am]

BILLING CODE 4910-13-P